DEPARTMENT OF ENERGY

Federal Energy Regulatory Commission

[Docket No. CP01-415-016]

East Tennessee Natural Gas Company; Notice of Compliance Filing

October 9, 2003.

Take notice that on September 30, 2003, East Tennessee Natural Gas Company (East Tennessee) tendered for filing as a part of its FERC Gas Tariff, Second Revised Volume No. 1, the following tariff sheets proposed to be effective on the later of November 1, 2003 or the in-service date of the facilities constructed under the Patriot Project:

Twenty-Sixth Revised Sheet No. 4

Fourth Revised Sheet No. 4A

East Tennessee asserts that the purpose of this filing is to comply with the Commission's order issued on November 20, 2002, in Docket Nos. CP01-415-000, et al., in which the Commission approved East Tennessee's amended application for a certificate authorizing the construction of certain pipeline facilities referred to as the Patriot Project. East Tennessee states that the revised tariff sheets reflect the rates for the Patriot Project service as approved by the Commission in the November 20, 2002 order. Specifically, the tariff sheets reflect a maximum reservation rate of $10.156/dth and a daily demand rate of $0.3339/dth.

East Tennessee states that copies of its filing have been mailed to all affected customers of East Tennessee and interested state commissions.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “eLibrary” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eLibrary (e-Filing) link.

Protest Date: October 15, 2003.

Magalie R. Salas,
Secretary.

[FR Doc. E3-00271 Filed 11-14-03; 8:45 am]

BILLING CODE 6717-01-P